DEPARTMENT OF TRANSPORTATION

Maritime Administration

[Docket Number MARAD-2024-0149]

Updated Notice of Availability for the Port of Port Angeles Memorandum of Agreement Under Section 106 of the National Historic Preservation Act

AGENCY: Maritime Administration, Department of Transportation.

ACTION: Notice of availability and request for comment.

SUMMARY: The Maritime Administration (MARAD) is funding the Intermodal Handling and Transfer Facility Project (Project) which will improve the safety and efficiency of the movement and sorting of forest products through Port Angeles in Port Angeles, Washington. In accordance with the National Historic Preservation Act (NHPA) and its implementing regulations, MARAD has determined that a Memorandum of Agreement (Agreement) must be prepared in accordance with the requirements of the NHPA in conjunction with the Project and invites public comments on the Agreement.

DATES: All comments on the Agreement are due on or before January 9, 2025. MARAD will consider comments filed after this date to the extent practicable.

ADDRESSES: To ensure that you do not duplicate your docket submissions, please submit all comments by only one of the following ways:

• Federal eRulemaking Portal: Go to https://www.regulations.gov, insert the docket number (MARAD-2024-0149) in the keyword box and click “Search.” Select the “Docket” tab, locate the Notice, and click on “comment” to begin the comment submission process. Follow the online instructions.

• Mail: Dockets Management Facility, U.S. Department of Transportation, 1200 New Jersey Avenue SE, West Building Ground Floor, Washington, D.C. 20590- 0001.

• Hand Delivery: W12-l40 of the Department of Transportation, 1200 New Jersey Avenue SE, Washington, DC 20590 between 9:00 a.m. and 5:00 p.m. E.T., Monday through Friday, except Federal Holidays. The telephone number is 202-366-9329.

• Instructions: To properly identify your comments, please include the agency name and the docket number at the beginning of your comments. All comments received will be posted without change to https://www.regulations.gov, including any personal information provided.

FOR FURTHER INFORMATION CONTACT: Wendy Coble, (202) 281-1046 or via email at marad.history@dot.gov. Persons who use a telecommunications device for the deaf (TDD) may call the Federal Information Relay Service (FIRS) at 1-800-877-8339 to contact the above individual during business hours. The FIRS is available twenty-four hours a day, seven days a week, to leave a message or question. You will receive a reply during normal business hours. You may send mail to the Department of Transportation, Maritime Administration, 1200 New Jersey Avenue SE, Washington, DC 20590-0001.

SUPPLEMENTARY INFORMATION:

Background

The U.S. Department of Transportation (DOT) awarded funds to the Port of Port Angeles (Port) under the Fiscal Year 2022 Port Infrastructure Development Program for the Intermodal Handling and Transfer Facility Project. The project is located in Port Angeles, Washington.

The project proposes to improve the safety and efficiency of the movement and sorting of forest products through Port Angeles, including the following project components:

• Site grading and resurfacing approximately 10 acres with asphalt pavement;

• Installing aboveground biofiltration treatment system with pretreatment tanks, biofiltration cell, polishing cell, and associated aboveground piping and appurtenances.

MARAD has defined the Project's area of potential effects (APE) as the footprint of the Project with a buffer around the adjacent archaeological site 45CA523 (Tse-whit-zen), inclusive of the potential physical, visual, and acoustic effects.

Identification of Historic Properties

The analysis conducted for this project included two archaeological investigations in coordination with the Lower Elwha Klallam Tribe (LEKT). The first investigation consisted of a pedestrian and subsurface survey performed in 2017. The second investigation was completed in 2020 under a State of Washington Archaeological Site Alteration and Excavation Permit issued by the DAHP and consisted of additional survey and subsurface testing. The archaeological materials collected during the 2020 investigation are currently held in trust for the LEKT at the Burke Museum in Seattle, Washington. As a result of these investigations, the boundary of Tse-whit-zen was expanded into a portion of the Log Yard, which was considered for this project and is considered an Area of Interest for LEKT under the Agreement.

The APE also contains three previously recorded historic archaeological resources including 45CA773 (railroad spur), 45CA796 (railroad spur), and 45CA797 (kiln stack/historic debris scatter), all of which are within the project footprint. All three sites were previously recommended not eligible for listing in the NRHP by the Port's archaeological contractor because they lack integrity and are not significant under any of the NRHP Criteria for Evaluation. The sites do not have any association with significant events or people, nor do they convey distinctive design or construction. Furthermore, the sites were found to lack the potential to yield information important to history by the Port's archaeological contractor. DAHP determined that these three historic archaeological sites did not require further consideration during archaeological testing of the Port's Log Yard in 2020.

Affected Historic Properties

Tse-whit-zen (site 45CA523) is a village of continuous uninterrupted use by the LEKT extending back for more than 2,700 years. The village was used extensively as a year-round place of habitation, as well as for traditional practices of sea mammal hunting, shellfish harvesting, and open marine water fishing. A large cemetery and numerous burials are associated with the village and the LEKT continues to maintain a cemetery at the site.

The site has been the subject of extensive investigations and documentation associated with the Washington State Department of Transportation's (WSDOT's) Graving Dock Facility for the Hood Canal Bridge Retrofit and Replacement Project, which was formally located on parcels owned by WSDOT. Two of these parcels are now owned by the Lower Elwha Klallam Tribe adjacent to the log yard.

Tse-whit-zen (45CA523) was listed in the National Register of Historic Places (NRHP) at the local level of significance under Criterion D in 2014. The period of significance is 300—2,700 years before present. The site includes three contributing areas and two noncontributing areas, which correspond with five distinct zones within the site. The site boundary at the time of listing was contained entirely within a Lower Elwha Klallam Tribe's parcel. However, it has been determined that the site extends beyond its originally defined boundaries.

Project Impacts on Historic Properties

Project design minimizes ground disturbance by paving and limiting excavation to match areas where the new surface transitions to the existing paved stormwater retention area on the east portion of the log yard. Excavation will not exceed a depth of 12 inches. However, regrading and resurfacing overlaps with the boundary of Tse-whit-zen (45CA523), although it will not impact any portions of the site that have been identified by previous archaeological investigations. Accordingly, project activities will not physically alter the historic property (site 45CA523). However, the project will introduce new visual elements that diminish the overall integrity of setting, feeling, and association for the historic property.

Adverse Effects, Avoidance, Minimization and Mitigation

MARAD, in coordination with SHPO and LEKT, determined that this project would require the development of a Memorandum of Agreement to address the adverse effects. As of this public notice, MARAD, SHPO, the Port, and LEKT have all agreed to be signatories to the Agreement. The draft Agreement is available for review by going to www.regulations.gov, and search using docket number “MARAD-2024-0149.”

To mitigate these adverse effects the MARAD will ensure the following measures are carried out by the Port:

• The Port will transfer to the LEKT “Area of Interest” identified during consultations, which is approximately 6.13 acres. Prior to transfer, the Port will remove from the Protection Area the existing storage warehouse building, office Conex, travel trailer, truck weigh scale, existing paving, quarry spalls, and bark and woody debris.

• Ground disturbing activities associated with this undertaking will be monitored by a professional archaeologist in accordance with the Project-specific Monitoring and Inadvertent Discovery Plan (MIDP). The MIDP details the monitoring and discovery protocols. The MIDP will incorporate the disposition provisions in section 10 of the 4 Party Agreement. All monitoring activities will be supervised by the Project Senior Archaeologist, who will meet the Secretary of the Interior's (SOI) Professional Qualifications Standards for Archeology (36 CFR part 61, 48 FR 44738). Additionally, the Port will retain the services of a Tribal Cultural Resources Monitor from the LEKT, who will observe the monitoring activities.

○ The Port, in consultation with LEKT, will obtain a State of Washington Archaeological Site Alteration and Excavation Permit from the DAHP to carry out the Undertaking, as determined necessary by DAHP.

○ The Port will retain the services of a professional archaeologist who meets the Secretary of the Interior's Professional Qualifications Standards for archaeology (36 CFR part 61), to monitor all Project-related ground disturbing activities.

○ The Port will compensate LEKT Cultural Resource Monitors to observe all Undertaking ground disturbing activities as invoiced by LEKT.

• The LEKT will transfer to the Port the three stormwater ponds that were constructed during the WSDOT Graving Dock project (2003-2004). These ponds are located adjacent to the Northwest property line of the LEKT's property. The footprint area of the three ponds is approximately 0.80 acres.

○ The Port's use of the Ponds will be limited to stormwater treatment and associated operation, maintenance, and repair. The Port's ownership and use of the Ponds will satisfy the requirement that the LEKT create a buffer from uses on adjoining property. Any alteration, at any time in the future, of the Ponds will require written approval by the LEKT. Ground disturbing work within the bottom footprint of the Ponds will be subject to the requirements enumerated in section II.B., above. The Port will be able to perform vegetation maintenance without notification.

• The Port will work cooperatively with the LEKT so that the runoff from within LEKT's property can utilize the Ponds and discharge to the harbor through the existing piping system. The Port will ensure that its use of the Ponds will not interfere with or cause damage to the burials located adjacent to the Ponds.

Public Participation

MARAD may provide additional information and documents concerning the project. This information, along with any comments received, can be found at the above docket number. Please check the notice specific docket for this information. It is requested that all public comments be submitted for consideration within 45 calendar days from the posting of this notice.

If you submit a comment, please include the docket number for this notice, indicate the specific section of this document to which each comment applies, and provide a reason for each suggestion or recommendation. You may submit your comments and material online as described in the ADDRESSES section above. MARAD recommends that you include your name and a mailing address, an email address, or a phone number in the body of your document so that MARAD can contact you if there are questions regarding your submission.

In accordance with 49 U.S.C. 31315(b)(6), DOT solicits comments from the public on the exemption requests. DOT posts these comments, without edit, including any personal information the commenter provides, to www.regulations.gov. As described in the system of records notice DOT/ALL 14 (Federal Docket Management System), which can be reviewed at https://www.transportation.gov/individuals/privacy/privacy-act-system-records-notices, the comments are searchable by the name of the submitter. Anyone can search the electronic form of all comments received into any of our dockets by the name of the individual submitting the comment (or signing the comment, if submitted on behalf of an association, business, labor union, etc.). For information on DOT's compliance with the Privacy Act, please visit https://www.transportation.gov/privacy.

(Authority: 49 CFR 1.81 and 1.93; 36 CFR part 800; 5 U.S.C. 552b.)

By Order of the Maritime Administrator.
T. Mitchell Hudson, Jr.,
Secretary, Maritime Administration.

[FR Doc. 2024-27531 Filed 11-22-24; 8:45 am]

BILLING CODE 4910-81-P